DEPARTMENT OF DEFENSE

Office of the Secretary

Charter Renewal of Department of Defense Federal Advisory Committees

AGENCY: Department of Defense.

ACTION: Renewal of Federal Advisory Committee.

SUMMARY: The Department of Defense (DoD) is publishing this notice to announce that it is renewing the charter for the Board of Visitors for the Western Hemisphere Institute for Security Cooperation (“the Board”).

FOR FURTHER INFORMATION CONTACT: Jim Freeman, Advisory Committee Management Officer for the Department of Defense, 703-692-5952.

SUPPLEMENTARY INFORMATION: The Board's charter is being renewed pursuant to 10 U.S.C. 2166(e)(1) and in accordance with the Federal Advisory Committee Act (FACA) of 1972 (5 U.S.C., Appendix, as amended) and 41 CFR 102-3.50(a). The Board's charter and contact information for the Board's Designated Federal Officer (DFO) can be found at http://www.facadatabase.gov/.

The Board provides the Secretary of Defense and the Deputy Secretary of Defense, through the Secretary of the Army, independent advice and recommendations on matters pertaining to the operations and management of the Western Hemisphere Institute for Security Cooperation (“the Institute”). The Board shall (a) Inquire into the curriculum, instruction, physical equipment, fiscal affairs, and academic methods of the Institute; other matters relating to the Institute that the Board decides to consider; and any other matter that the Secretary of Defense determines appropriate (10 U.S.C. 2166(e)(4)(A); (b) Review the curriculum to determine whether it complies with applicable U.S. laws and regulations, is consistent with U.S. policy goals toward Latin America and the Caribbean, and adheres to current U.S. doctrine (10 U.S.C. 2166(e)(4)(B)(i)-(iii); and (c) Determine whether the instruction under the curriculum of the Institute appropriately emphasizes human rights, the rule of law, due process, civilian control of the military and the role of the military in a democratic society (10 U.S.C. 2166(d)(1)(e)(4)(B)(iv)).

The Board will be composed 14 members, 6 of whom are designated by the Secretary of Defense including, to the extent practicable, persons from academia, religious institutions, and human rights communities. The Secretary of Defense will also affirm the appointments, designated in statute, of the senior military officer responsible for training and doctrine in the U.S. Army (or designee) and the Commanders of the Combatant Commands with geographic responsibility for the Western Hemisphere (U.S. Northern Command and the U.S. Southern Command) (or the designees of those officers). The Board will also be composed of: (a) Two Members of the Senate (the Chair and Ranking Member of the Armed Services Committee or a designee of either of them); (b) Two Members of the House of Representatives (the Chair and Ranking Member of the Armed Services Committee or a designee of either of them; and (c) One person designated by the Secretary of State (10 U.S.C. 2166(e)(1)). All members of the Board are appointed to provide advice on behalf of the Government on the basis of their best judgment without representing any particular point of view and in a manner that is free from conflict of interest. Except for reimbursement of official Board-related travel and per diem, Board members serve without compensation.

The public or interested organizations may submit written statements to the Board membership about the Board's mission and functions. Written statements may be submitted at any time or in response to the stated agenda of planned meeting of the Board. All written statements shall be submitted to the DFO for the Board, and this individual will ensure that the written statements are provided to the membership for their consideration.

Dated: May 21, 2018.
Shelly Finke,
Alternate OSD Federal Register Liaison Officer, Department of Defense.

[FR Doc. 2018-11130 Filed 5-23-18; 8:45 am]

BILLING CODE 5001-06-P